DEPARTMENT OF THE TREASURY

Bureau of Engraving and Printing

Draft Environmental Impact Statement (EIS) and Draft Finding of No Practicable Alternative (FONPA) for the Proposed Construction and Operation of a Replacement Currency Production Facility at the Beltsville Agricultural Research Center, Prince George's County, MD

AGENCY: Bureau of Engraving and Printing, Department of the Treasury.

ACTION: Notice of availability (NOA).

SUMMARY: The U.S. Department of the Treasury (Treasury), Bureau of Engraving and Printing (BEP) announces the availability of the Draft Environmental Impact Statement (EIS) for the proposed construction and operation of a replacement Currency Production Facility (CPF) at the Beltsville Agricultural Research Center (BARC) in Prince George's County, Maryland. This is the Proposed Action.

DATES: Comments must be received by December 21, 2020 to be considered during preparation of the Final EIS.

ADDRESSES: Written comments may be mailed to: ATTN: Bureau of Engraving and Printing (BEP) Project EIS, U.S. Army Corps of Engineers (USACE), Baltimore District Planning Division, 2 Hopkins Plaza, 10th Floor, Baltimore, MD 21201, or emailed to: BEP-EIS@usace.army.mil. Comments may also be submitted online through the project website (https://www.nab.usace.army.mil/Home/BEP-Replacement-Project/) or delivered verbally during the public webinar, described below.

FOR FURTHER INFORMATION CONTACT: Please contact Mr. Harvey Johnson, USACE-Baltimore, Programs and Project Management Division by email at BEP-EIS@usace.army.mil or 410-977-6733. USACE has established a web page that contains information updates and background on this Draft EIS at https://www.nab.usace.army.mil/Home/BEP-Replacement-Project/.

SUPPLEMENTARY INFORMATION: In accordance with the National Environmental Policy Act (NEPA), the Draft EIS analyzes the potential environmental and socioeconomic impacts, and recommends related mitigation measures, associated with the Proposed Action. The Proposed Action would replace Treasury's existing and obsolete currency production functions located in downtown Washington, DC (DC Facility), and would provide Treasury with a modern, scalable, sufficiently sized production facility within the National Capital Region (NCR) that meets Treasury's needs.

The Proposed Action includes construction and operation of an up to 1 million square-foot CPF within the NCR. The Proposed Action would be implemented over an approximately nine-year period, from 2021 to 2029. This duration includes design, construction, equipment installation, acceptance testing to support full operations, and the sequenced transition of approximately 1,600 personnel from Treasury's DC Facility into the completed CPF. Currency manufacturing at the DC Facility would be phased out. The operational life of the Proposed Action is anticipated to be 50 years. Treasury would incorporate Environmental Protection Measures (EPMs), Regulatory Compliance Measures (RCMs), and Best Management Practices (BMPs) into the Proposed Action to proactively minimize potential adverse environmental impacts and comply with applicable environmental regulatory requirements. Additional mitigation measures are recommended to further reduce adverse impacts.

A Draft Finding of No Practicable Alternative (FONPA) addressing potential impacts on wetlands is included in the Draft EIS for comment.

The BEP's mission includes manufacturing U.S. currency notes; research, development, testing, and evaluation of counterfeit deterrents; and development of production automation technologies. Treasury currently operates two production facilities for this purpose: The DC Facility and a facility in Fort Worth, Texas. The DC Facility has been in operation for more than 100 years and is neither able to support modern currency production nor Treasury's (and specifically the BEP's) current and future mission.

The condition, configuration, and location of the DC Facility severely limit Treasury's ability to modernize the DC Facility through renovation. Within the DC Facility, manufacturing processes are inefficient and increase staff safety risks; the location of the DC Facility does not allow Treasury to comply with modern physical security standards.

Over the past 20 years, Treasury has considered several scenarios to address the inadequacy of its current facilities in the NCR, including renovation of the DC Facility and new construction within the NCR. Treasury concluded that construction of a new replacement CPF, as opposed to renovation of the DC Facility, was the most efficient and cost-effective option. As such, Treasury proposes to construct and operate a new CPF on a minimum 100-acre parcel of federally owned, available land within the NCR to provide Treasury with a modern production facility, resulting in more efficient, streamlined currency production, and allowing Treasury to maintain its presence within the NCR.

The Draft EIS analyzes the potential environmental and socioeconomic impacts associated with the Proposed Action, including cumulative effects. Minimization of adverse effects through avoidance and environmentally sensitive design would be used to avoid impacts to sensitive resources to the maximum extent practicable. Where these efforts are not sufficient to avoid adverse effects, the Draft EIS recommends additional mitigation measures that Treasury may implement to further reduce identified adverse impacts.

In support of the EIS, Treasury, with assistance from USACE, is conducting site-specific studies in accordance with federal and state requirements, such as Sections 404/401 of the Clean Water Act (CWA) and Section 106 of the National Historic Preservation Act. The results of these studies will inform the design process and allow Treasury to minimize potential adverse impacts to the extent feasible.

As part of Treasury's planning process, it gathered data on potential sites in the NCR that could support a new CPF. Treasury evaluated each potential site against various screening criteria to identify reasonable alternatives. Treasury identified one reasonable Action Alternative (the Preferred Alternative) that would meet the purpose of and need for the Proposed Action. This Preferred Alternative is summarized below and analyzed in detail in the Draft EIS.

Preferred Alternative: BARC 200 Area

This alternative includes a 104.2-acre parcel of land located in BARC's Central Farm in the 200 Area building cluster. The parcel is located between Odell Road to the north and Powder Mill Road to the south; Poultry Road traverses the site. The parcel, generally consisting of grassland, cropland, scattered trees, and abandoned buildings, is available for redevelopment. Based on its alternatives screening process, Treasury determined that only this parcel met the purpose of and need for the Proposed Action, as well as the established site screening criteria. The Agriculture Improvement Act of 2018 specifically identified this parcel within the BARC 200 Area and included a Congressional authorization for the U.S. Department of Agriculture to transfer this parcel to Treasury for the purpose of constructing and operating the Proposed Action.

Treasury also carried forward the No Action Alternative for detailed analysis in the Draft EIS. While the No Action Alternative would not satisfy the purpose of or need for the Proposed Action, Treasury retained this Alternative to provide a comparative baseline against which to analyze the effects of the Preferred Alternative as required under the Council on Environmental Quality's regulations (40 Code of Federal Regulations 1502.14[c]).

Resource areas analyzed in the Draft EIS include: Land use; visual resources; air quality; noise; geology, topography, and soils; water resources; biological resources; cultural resources; traffic and transportation; utilities; socioeconomics and environmental justice (EJ); hazardous and toxic materials and waste; and human health and safety. Treasury dismissed air space and recreation from detailed study; through the public scoping process, Treasury determined the Proposed Action has no potential to cause significant adverse impacts to these resource areas.

Based on the Draft EIS analysis, potentially significant adverse impacts could occur to visual resources, water resources, cultural resources, traffic and transportation, and EJ communities (i.e., from disproportionate adverse traffic impacts). Impacts to all other resource areas would be less-than-significant adverse, negligible, or beneficial. Recommended mitigation measures are presented in the Draft EIS to reduce potential adverse effects.

The Preferred Alternative for the Proposed Action would also adversely impact wetlands. Accordingly, Treasury prepared a Draft FONPA to comply with Executive Order 11990, Protection of Wetlands. As described in the Draft EIS, regulatory compliance measures (e.g., permitting under Sections 404/401 of the CWA) would be implemented to minimize adverse impacts on wetlands.

Government agencies, Native American Tribes, and the public are invited to review and comment on the Draft EIS and Draft FONPA. The public comment period begins with the publication of this Notice of Availability in the Federal Register and will last for 45 days.

The Draft EIS and related materials are available on the project website at https://www.nab.usace.army.mil/home/bep-replacement-project. If you cannot access the Draft EIS materials online, please send a request for information via email to: BEP-EIS@usace.army.mil; or via mail to: ATTN: Bureau of Engraving and Printing (BEP) Project EIS, U.S. Army Corps of Engineers, Baltimore District Planning Division, 2 Hopkins Plaza, 10th Floor, Baltimore, MD 21201.

The public comment period also includes a virtual public meeting that will provide an opportunity for the public to learn about the Proposed Action (i.e., Preferred Alternative), No Action Alternative, and environmental impact analysis. This meeting will be held online due to COVID-19 restrictions. The virtual public meeting includes two parts: (1) An online reading room and (2) a public webinar. The online reading room, available for the entire 45-day public comment period at https://bep-eis.consultation.ai/, contains public outreach and interpretive materials for the Draft EIS, as well as the Draft EIS itself. The public webinar will consist of a 2-hour online meeting wherein the BEP will give a brief presentation of the Draft EIS and solicit public comments; the specific details of this webinar, including the date, time, link, phone number, and password, will be announced on the project website and in local media at least two weeks in advance of the webinar.

Following the public comment period, Treasury will consider all public comments and prepare and publish a Final EIS prior to making any decision regarding the Proposed Action. Comments must be received or postmarked by December 21, 2020 to be considered during preparation of the Final EIS.

David F. Eisner,
Assistant Secretary for Management, Department of the Treasury.

[FR Doc. 2020-24826 Filed 11-6-20; 8:45 am]

BILLING CODE 4840-01-P